DEPARTMENT OF JUSTICE

Notice of Lodging of a Stipulated Order for Preliminary Relief Pursuant to the Clean Water Act

Notice is hereby given that a proposed Stipulated Order for Preliminary Relief was lodged on March 15, 2011, with the United States District Court for the Northern District of California in United States of America et al. v. City of Alameda, et al., Civ. No. C 09-05684 RS.

The United States of America and the People of the State of California ex rel. California State Water Resources Control Board and California Regional Water Quality Control Board, San Francisco Bay Region (together “Water Boards”), and Plaintiff-Intervenor San Francisco Baykeeper (“Baykeeper”), brought claims under Sections 301 and 402 of the Clean Water Act, 33 U.S.C. 1251, et seq., against seven municipal defendants, including the City of Alameda, the City of Albany, the City of Berkeley, the City of Emeryville, the City of Oakland, the City of Piedmont and the Stege Sanitary District (together “Satellite Communities”).

The United States, the Water Boards and Baykeeper allege that the Satellite Communities are in violation of the Clean Water Act and their National Pollutant Discharge Elimination System (“NPDES”) Permits because they have unlawful sanitary sewer overflows (“SSOs”) during wet weather. They also allege that the Satellite Communities are in violation of the operation and maintenance provisions of their NPDES Permits because they contribute excessive flow to treatment systems owned and operated by the East Bay Municipal Utilities District (“EBMUD”), which causes EBMUD to violate the Clean Water Act and its own NPDES permit.

The proposed Stipulated Order for Preliminary Relief complements a January 2009 interim settlement with EBMUD. Among other things, the EBMUD settlement requires EBMUD to study flow from the Satellite Communities and make recommendations to EPA and the Water Boards as to how that flow can be reduced to prevent discharges from three wet weather facilities (“WWFs”).

This Stipulated Order for Preliminary Relief represents an interim solution that will move the parties toward a final resolution of the claims in the complaint. It will require the Satellite Communities to gather information that EBMUD will use to determine how to reduce flows to its system. It will also require the Satellite Communities to begin taking steps to reduce inflow and infiltration into their collection systems. This settlement, together with the earlier interim settlement with EBMUD, will provide EBMUD, EPA and the Water Boards with the information necessary to achieve a final settlement that will eliminate discharges from the WWFs.

The Department of Justice will receive for a period of thirty (30) days from the date of this publication comments relating to the proposed Stipulated Order for Preliminary Relief. Comments should be addressed to the Assistant Attorney General, Environment and Natural Resources Division, and either e-mailed to pubcomment-ees.enrd@usdoj.gov or mailed to P.O. Box 7611, U.S. Department of Justice, Washington, DC 20044-7611, and should refer to United States et al. v. City of Alameda et al., DJ No. 90-5-1-1-09361/1.

The proposed Stipulated Order for Preliminary Relief may be examined at the Region 9 Office of the Environmental Protection Agency, 75 Hawthorne Street, San Francisco, CA, 94105. During the public comment period, the proposed Stipulated Order for Preliminary Relief may also be examined on the following Department of Justice Web site, http://www.usdoj.gov/enrd/Consent_Decrees.html. A copy of the Stipulated Order for Preliminary Relief may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $25.00 (25 cents per page reproduction cost) payable to the U.S. Treasury. The check should refer to United States et al. v. City of Alameda, et al., DJ No. 90-5-1-1-09361/1.

Henry Friedman,
Assistant Section Chief, Environmental Enforcement Section, Environment and Natural Resources Division.

[FR Doc. 2011-6534 Filed 3-18-11; 8:45 am]

BILLING CODE 4410-15-P